NATIONAL AERONAUTICS AND SPACE ADMINISTRATION

14 CFR Parts 1260 and 1274

RIN 2700-AD34

NASA Grant and Cooperative Agreement Handbook—Individual Procurement Action Reports (NF 507)

AGENCY: National Aeronautics and Space Administration.

ACTION: Final rule.

SUMMARY: This final rule amends NASA regulations by removing from NASA grant officers responsibility for submitting Individual Procurement Action Reports (NF 507) for all grant and cooperative agreement actions. This rule also removes the “Individual Procurement Action Report (NASA Form 507)”.

EFFECTIVE DATE: July 23, 2007.

FOR FURTHER INFORMATION CONTACT: Paul Brundage, NASA Headquarters, Contract Management Division, Washington, DC, (202) 358-0481, e-mail: paul.d.brundage@nasa.gov.

SUPPLEMENTARY INFORMATION:

A. Background

The NF 507 was rendered obsolete in 2003 and has been eliminated as a NASA form. Thus, the requirement for its submission by NASA grant officers on all grant and cooperative agreement actions is eliminated.

B. Regulatory Flexibility Act

The Regulatory Flexibility Act does not apply to this final rule. This final rule does not constitute a significant revision within the meaning of Public Law 98-577, and publication for public comment is not required. However, NASA will consider comments from small entities concerning the affected coverage in accordance with 5 U.S.C. 610. Interested parties should cite 5 U.S.C. 601, et seq., in correspondence.

C. Paperwork Reduction Act

The Paperwork Reduction Act (Pub. L. 104-13) does not apply because this rule does not impose any new recordkeeping or information collection requirements, or collection of information from offerors, contractors, or members of the public that require the approval of the Office of Management (OMB) and Budget under 44 U.S.C. 3501, et seq.

List of Subjects in 14 CFR Parts 1260 and 1274

Grant programs-science and technology, Cooperative agreements with commercial firms-science and technology.

Sheryl Goddard,
Acting Assistant Administrator for Procurement.

Accordingly, 14 CFR Parts 1260 and 1274 are amended as follows:

1. The authority citation for 14 CFR Parts 1260 and 1274 continues to read as follows:

Authority: 42 U.S.C. 2473(c)(1), Pub. L. 97-258, 96 Stat. 1003 (31 U.S.C. 6301, et seq.), and OMB Circular A-110.

PART 1260—GRANTS AND COOPERATIVE AGREEMENTS

2. Revise paragraph (a) of § 1260.75 to read as follows:

§ 1260.75 Summary of report requirements.

(a) The Committee on Academic Science and Engineering (CASE) Report (NF 1356), for grants and cooperative agreements awarded to educational institutions, is submitted by the program office with the basic award procurement request and completed by the grant officer. The grant officer should initiate an amendment to the NF 1356 whenever the principal investigator or the technical officer changes.

* * * * *

PART 1274-COOPERATIVE AGREEMENTS WITH COMMERCIAL FIRMS

Appendix to Part 1274 [Amended]

3. In the appendix to part 1274, under the section “Exhibit B to Part 1274—Reports,” remove paragraph 1 and redesignate paragraphs 2 and 3 as 1 and 2, respectively.

[FR Doc. E7-14135 Filed 7-20-07; 8:45 am]

BILLING CODE 7510-01-P